DEPARTMENT OF THE INTERIOR

National Park Service

[N6618; NPS-WASO-NAGPRA-NPS0041353; PPWOCRADN0-PCU00RP14.R50000]

Notice of Intended Repatriation: County of Los Angeles, Department of Parks and Recreation, Alhambra, CA

AGENCY: National Park Service, Interior.

ACTION: Notice.

SUMMARY: In accordance with the Native American Graves Protection and Repatriation Act (NAGPRA), the County of Los Angeles, Department of Parks and Recreation (LA County Parks) intends to repatriate certain cultural items that meet the definition of unassociated funerary objects, sacred objects, and/or objects of cultural patrimony and that have a cultural affiliation with the Indian Tribes or Native Hawaiian organizations in this notice.

DATES: Repatriation of the cultural items in this notice may occur on or after January 15, 2026.

ADDRESSES: Send additional, written requests for repatriation of the cultural items in this notice to Chester Kano, Deputy Director, Planning and Development Agency, County of Los Angeles, Department of Parks and Recreation, 1000 South Fremont Avenue, Unit #40, Alhambra, CA 91803, email ckano@parks.lacounty.gov.

SUPPLEMENTARY INFORMATION: This notice is published as part of the National Park Service's administrative responsibilities under NAGPRA. The determinations in this notice are the sole responsibility of LA County Parks, and additional information on the determinations in this notice, including the results of consultation, can be found in the summary or related records. The National Park Service is not responsible for the determinations in this notice.

Abstract of Information Available

A total of 39 lots of unassociated funerary objects and 1,750 objects of cultural patrimony (1,739 lots plus 11 boxes of cultural items) have been requested for repatriation.

The 39 lots of unassociated funerary objects are shells. The 1,750 objects of cultural patrimony include two lots of bone, 11 lots of botanical material, 30 lots of ceramic material, 102 lots of charcoal/charred wood, 316 of faunal remains, 520 lots of flaked stone, 460 lots of ground/polished/pecked stone, 124 lots of other, 16 lots of radiocarbon samples, 74 lots of soil, two lots of exotic stone (manuport), one lot of noncultural material, 76 lots charcoal/charred wood, one lot of igneous rock, one lot of granite, one lot of unknown, one lot of quartz, one lot of potential seeds, seven boxes of mano and metate fragments, two boxes of fire affected rock and metate fragments, one box of charcoal, bone, debitage, and other small objects, and one box with a metate.

Between the years of 1994-2005, artifacts were removed from CA-LAN-192, the Lovejoy Springs site within Stephen Sorensen Park, in Los Angeles County, CA. All excavations were associated with the development of Stephen Sorensen Park. The 1994-1996 excavations, referred to as the Salvage Excavation, were done by R. W. Robinson Consulting Archaeologist and professor at Antelope Valley College along with a group of his students and volunteers. The 2004 excavations, referred to as the Effects Assessment, the 2005 excavations, referred to as the Emergency Excavation, and a subsequent 2025 excavation, referred to as Phase II Monitoring, was done by Applied Earthworks, Inc. (AE). The collections have been placed on reposit, and remain, at the Antelope Valley Indian Museum (AVIM).

All work performed by AE was summarized in the report, Final Eligibility and Effects Assessment at CA-LAN-192, by Barry A. Price, Jay B. Lloyd, Sandra S. Flint, Mary Clark Baloian, Michael Mirro, Randy Baloian, David Earle, and Alan Garfinkel, prepared for Rincon Consultants, Inc. This report stated that the Tataviam (Takic), occupied the vicinity of the Santa Clarita Valley at the time of first contact with Europeans ([AVIM] n.d.; Padon and Love 2004).

Additionally, ethnographers and tribal citizens have documented CA-LAN-192 as the Serrano village of Tameobit. During a driving tour of Serrano Ancestral Territory in 1918, Santos Manuel told ethnographer, John Peabody Harrington that Tameobit meant “at the knees” and Harrington recorded its location near Lovejoy Buttes (King, 2004: 83). In addition, archaeologists describe the Lovejoy Springs site as “an intensively used site containing deep midden deposits, burials, and evidence of continuous or frequent seasonal occupation (Mason, et al, 2018:30).”

These records, combined with communication and consultation with representatives of the Yuhaaviatam of San Manuel Nation (also known as the San Manuel Band of Mission Indians) and the non-federally recognized Fernandeño Tataviam Band of Mission Indians, were relied upon to identify cultural affiliation and character of the items listed above.

Determinations

LA County Parks has determined that:

• The 39 lots of shell unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The 1,750 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 15, 2026. If competing requests for repatriation are received, the LA County Parks must determine the most appropriate requestor prior to repatriation. Requests for joint repatriation of the cultural items are considered a single request and not competing requests. LA County Parks is responsible for sending a copy of this notice to the Indian Tribes and Native Hawaiian organizations identified in this notice and to any other consulting parties.

Authority: Native American Graves Protection and Repatriation Act, 25 U.S.C. 3004 and the implementing regulations, 43 CFR 10.9.

Dated: November 19, 2025.
Melanie O'Brien,
Manager, National NAGPRA Program.

[FR Doc. 2025-22898 Filed 12-15-25; 8:45 am]

BILLING CODE 4312-52-P